DEPARTMENT OF COMMERCE

National Oceanic and Atmospheric Administration

50 CFR Part 648

[Docket No. 180110022-8022-01]

RIN 0648-BH52

Magnuson-Stevens Fishery Conservation and Management Act Provisions; Fisheries of the Northeastern United States; Northeast Multispecies Fishery; Framework Adjustment 57

AGENCY: National Marine Fisheries Service (NMFS), National Oceanic and Atmospheric Administration (NOAA), Commerce.

ACTION: Proposed rule.

SUMMARY: This action proposes approval of, and regulations to implement, Framework Adjustment 57 to the Northeast Multispecies Fishery Management Plan. This rule would set 2018-2020 catch limits for 20 multispecies (groundfish) stocks, adjust allocations for several fisheries, revise accountability measures, and make other minor changes to groundfish management measures. This action is necessary to respond to updated scientific information and achieve the goals and objectives of the fishery management plan. The proposed measures are intended to help prevent overfishing, rebuild overfished stocks, achieve optimum yield, and ensure that management measures are based on the best scientific information available.

DATES: Comments must be received by April 6, 2018.

ADDRESSES: You may submit comments, identified by NOAA-NMFS-2018-0028, by either of the following methods:

• Electronic Submission: Submit all electronic public comments via the Federal eRulemaking Portal.

1. Go to www.regulations.gov/#!docketDetail;D=NOAA-NMFS-2018-0028;

2. Click the “Comment Now!” icon and complete the required fields; and

3. Enter or attach your comments.

• Mail: Submit written comments to Michael Pentony, Regional Administrator, National Marine Fisheries Service, 55 Great Republic Drive, Gloucester, MA 01930. Mark the outside of the envelope, “Comments on the Proposed Rule for Groundfish Framework Adjustment 57.”

Instructions: Comments sent by any other method, to any other address or individual, or received after the end of the comment period, may not be considered by us. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

Copies of Framework Adjustment 57, including the draft Environmental Assessment, the Regulatory Impact Review, and the Regulatory Flexibility Act Analysis prepared by the New England Fishery Management Council in support of this action are available from Thomas A. Nies, Executive Director, New England Fishery Management Council, 50 Water Street, Mill 2, Newburyport, MA 01950. The supporting documents are also accessible via the internet at: http://www.nefmc.org/management-plans/northeast-multispecies or http://www.regulations.gov.

FOR FURTHER INFORMATION CONTACT: Mark Grant, Fishery Policy Analyst, phone: 978-281-9145; email: Mark.Grant@noaa.gov.

SUPPLEMENTARY INFORMATION:

Table of Contents

1. Summary of Proposed Measures

2. Fishing Year 2018 Shared U.S./Canada Quotas

3. Catch Limits for Fishing Years 2018-2020

4. Default Catch Limits for Fishing Year 2021

5. Revisions to Common Pool Trimester Allocations

6. Adjustments Due to Fishing Year 2016 Overages

7. Revisions to Atlantic Halibut Accountability Measures

8. Revisions to Southern Windowpane Flounder Accountability Measures for Non-Groundfish Trawl Vessels

9. Revision to the Southern New England/Mid-Atlantic Yellowtail Flounder Accountability Measures for Scallop Vessels

10. Recreational Fishery Measures

11. Fishing Year 2018 Annual Measures Under Regional Administrator Authority

12. Administrative Regulatory Corrections Under Secretarial Authority

1. Summary of Proposed Measures

This action would implement the management measures in Framework Adjustment 57 (Framework 57) to the Northeast Multispecies Fishery Management Plan (FMP). The New England Fishery Management Council deemed the proposed regulations necessary to implement Framework 57 in a March 14, 2018, letter from Council Chairman Dr. John Quinn to Regional Administrator Michael Pentony. Under the Magnuson-Stevens Fishery Conservation and Management Act (Magnuson-Stevens Act), we are required to publish proposed rules for comment after preliminarily determining whether they are consistent with applicable law. The Magnuson-Stevens Act allows us to approve, partially approve, or disapprove measures that the Council proposes based only on whether the measures are consistent with the fishery management plan, plan amendment, the Magnuson-Stevens Act and its National Standards, and other applicable law. Otherwise, we must defer to the Council's policy choices. We are seeking comments on the Council's proposed measures in Framework 57 and whether they are consistent with the Northeast Multispecies FMP, the Magnuson-Stevens Act and its National Standards, and other applicable law. Through Framework 57, the Council proposes to:

• Set fishing year 2018 shared U.S./Canada quotas for Georges Bank (GB) yellowtail flounder and Eastern GB cod and haddock;

• Set 2018-2020 specifications for 20 groundfish stocks;

• Revise the common pool trimester total allowable catch (TAC) allocations for several stocks;

• Revise accountability measures (AM) for Atlantic halibut for vessels issued any Federal permit;

• Revise AMs for southern windowpane flounder for non-groundfish trawl vessels;

• Revise the trigger for the scallop fishery's AM for Southern New England/Mid-Atlantic (SNE/MA) yellowtail flounder; and

• Grant the Regional Administrator authority to adjust recreational measures for GB cod.

This action also proposes a number of other measures that are not part of Framework 57, but that may be, or are required to be, considered and implemented under our authority specified in the FMP. We are proposing these measures in conjunction with the Framework 57 proposed measures for expediency purposes, and because these measures are related to the catch limits proposed as part of Framework 57. The additional measures proposed in this action are listed below:

• Management measures for the common pool fishery—this action proposes fishing year 2018 trip limits for the common pool fishery.

• Adjustments for fishing year 2016 catch overages—this action would reduce the 2018 allocation of GB cod, Gulf of Maine (GOM) cod, and witch flounder due to catch limit overages that occurred in fishing year 2016.

• Other regulatory corrections—we propose one administrative correction to address a minor rounding error in the regulations for the common pool trimester TACs. This proposed correction is described in the section “12. Regulatory Corrections.”

2. 2018 Fishing Year U.S./Canada Quotas

Management of Transboundary Georges Bank Stocks

Eastern GB cod, eastern GB haddock, and GB yellowtail flounder are jointly managed with Canada under the United States/Canada Resource Sharing Understanding. The Transboundary Management Guidance Committee (TMGC) is a government-industry committee made up of representatives from the United States and Canada. For historical information about the TMGC see: http://www.bio.gc.ca/info/intercol/tmgc-cogst/index-en.php. Each year, the TMGC recommends a shared quota for each stock based on the most recent stock information and the TMGC's harvest strategy. The TMGC's harvest strategy for setting catch levels is to maintain a low to neutral risk (less than 50 percent) of exceeding the fishing mortality limit for each stock. The harvest strategy also specifies that when stock conditions are poor, fishing mortality should be further reduced to promote stock rebuilding. The shared quotas are allocated between the United States and Canada based on a formula that considers historical catch (10-percent weighting) and the current resource distribution (90-percent weighting).

For GB yellowtail flounder, the Council's Scientific and Statistical Committee (SSC) also recommends an acceptable biological catch (ABC) for the stock, which is typically used to inform the U.S. TMGC's discussions with Canada for the annual shared quota. Although the stock is jointly managed with Canada, and the TMGC recommends annual shared quotas, the Council may not set catch limits that would exceed the SSC's recommendation. The SSC does not recommend ABCs for eastern GB cod and haddock because they are management units of the total GB cod and haddock stocks. The SSC recommends overall ABCs for the total GB cod and haddock stocks. The shared U.S./Canada quota for eastern GB cod and haddock is included in these overall ABCs, and must be consistent with the SSC's recommendation for the total GB stocks.

2018 U.S./Canada Quotas

The Transboundary Resources Assessment Committee conducted assessments for the three-transboundary stocks in July 2017, and detailed summaries of these assessments can be found at: http://www.nefsc.noaa.gov/saw/trac/. The TMGC met in September 2017 to recommend shared quotas for 2018 based on the updated assessments, and the Council adopted the TMGC's recommendations in Framework 57. The proposed 2018 shared U.S./Canada quotas, and each country's allocation, are listed in Table 1.

Table 1—Proposed 2018 Fishing Year U.S./Canada Quotas (mt, Live Weight) and Percent of Quota Allocated to Each Country
Quota | Eastern GB cod | Eastern GB haddock | GB yellowtail flounder
Total Shared Quota | 951 | 40,000 | 300
U.S. Quota | 257 (27%) | 15,600 (39%) | 213 (71%)
Canadian Quota | 694 (73%) | 24,400 (61%) | 87 (29%)

The Council's proposed 2018 U.S. quota for eastern GB haddock would be a 47-percent decrease compared to 2017. This decrease is due to a decrease in biomass and a reduction in the portion of the shared quota that is allocated to the United States. The Council's proposed U.S. quota for eastern GB cod and GB yellowtail flounder would be a 76-percent and a 3-percent increase, respectively, compared to 2017, which are a result of increases in survey biomass and the portions of the shared quotas allocated to the United States. For a more detailed discussion of the TMGC's 2018 catch advice, see the TMGC's guidance document at: https://www.greateratlantic.fisheries.noaa.gov/sustainable/species/multispecies/announcements/2017tmgcguiddoc.pdf.

The regulations implementing the U.S./Canada Resource Sharing Understanding require deducting any overages of the U.S. quota for eastern GB cod, eastern GB haddock, or GB yellowtail flounder from the U.S. quota in the following fishing year. If catch information for the 2017 fishing year indicates that the U.S. fishery exceeded its quota for any of the shared stocks, we will reduce the respective U.S. quotas for the 2018 fishing year in a future management action, as close to May 1, 2018, as possible. If any fishery that is allocated a portion of the U.S. quota exceeds its allocation and causes an overage of the overall U.S. quota, the overage reduction would only be applied to that fishery's allocation in the following fishing year. This ensures that catch by one component of the overall fishery does not negatively affect another component of the overall fishery. An overage of the U.S. ABC of GB cod in 2016 is discussed in Section 6, Adjustments Due to Fishing Year 2016 Overages.

3. Catch Limits for the 2018-2020 Fishing Years

Summary of the Proposed Catch Limits

Tables 2 through 9 show the proposed catch limits for the 2018-2020 fishing years. A brief summary of how these catch limits were developed is provided below. More details on the proposed catch limits for each groundfish stock can be found in Appendix II (Calculation of Northeast Multispecies Annual Catch Limits, FY 2018-FY 2020) to the Framework 57 Environmental Assessment (see ADDRESSES for information on how to get this document).

Through Framework 57, the Council proposes to adopt catch limits for the 20 groundfish stocks for the 2018-2020 fishing years based on assessments completed in 2017. Catch limit increases are proposed for 11 stocks: GB and GOM cod, GOM haddock, GB and Cape Cod (CC)/GOM yellowtail flounder, American plaice, witch flounder, GB winter flounder, redfish, pollock, and wolffish. For a number of stocks, the catch limits proposed in this action are lower than the catch limits set for the 2017 fishing year. Although some of these decreases are small, a 75-percent reduction is proposed for SNE/MA yellowtail flounder, and a 45-percent reduction is proposed for GOM winter flounder. The ABC for Atlantic halibut is a decrease from 2017, but is not expected to reduce landings because updated discard mortality information will result in a reduction in mortality attributed to discards. Table 2 details the percent change in the 2018 catch limit compared to the 2017 fishing year.

Overfishing Limits and Acceptable Biological Catches

The overfishing limit (OFL) serves as the maximum amount of fish that can be caught in a year without resulting in overfishing. The OFL for each stock is calculated using the estimated stock size and FMSY (i.e., the fishing mortality rate that, if applied over the long term, would result in maximum sustainable yield). The OFL does not account for scientific uncertainty, so the SSC typically recommends an ABC that is lower than the OFL in order to account for this uncertainty. Usually, the greater the amount of scientific uncertainty, the lower the ABC is set compared to the OFL. For GB cod, GB haddock, and GB yellowtail flounder, the total ABC is then reduced by the amount of the Canadian quota (see Table 1 for the Canadian share of these stocks). Additionally, although GB winter flounder and Atlantic halibut are not jointly managed with Canada, there is some Canadian catch of these stocks. Because the total ABC must account for all sources of fishing mortality, expected Canadian catch of GB winter flounder (45 mt) and Atlantic halibut (33 mt) is deducted from the total ABC. The U.S. ABC is the amount available to the U.S. fishery after accounting for Canadian catch.

Based on the SSC's recommendation, the Council recommended setting the OFL as unknown for GB yellowtail flounder, witch flounder, and Atlantic halibut. Empirical stock assessments are used for these three stocks, and these assessments can no longer provide quantitative estimates of the status determination criteria. In the temporary absence of an OFL, given recent catch data and estimated trends in stock biomass showing stability or improvement in stock conditions, we have preliminarily determined that these ABCs are a sufficient limit for preventing overfishing and are consistent with the National Standards. This action does not propose any changes to the status determination criteria for these stocks. During development of this action, we notified the Council that we are developing guidance on setting status determination criteria and relevant catch limits in cases when an empirical assessment cannot provide numerical estimates of traditional reference points.

Table 2—Proposed Fishing Years 2018-2020 Overfishing Limits and Acceptable Biological Catches
[mt, live weight]
Stock | 2018: OFL | 2018: U.S. ABC | Percent change from 2017 | 2019: OFL | 2019: U.S. ABC | 2020: OFL | 2020: U.S. ABC
GB Cod | 3,047 | 1,591 | 139 | 3,047 | 2,285 | 3,047 | 2,285
GOM Cod | 938 | 703 | 41 | 938 | 703 | 938 | 703
GB Haddock | 94,274 | 48,714 | −15 | 99,757 | 48,714 | 100,825 | 73,114
GOM Haddock | 16,954 | 13,131 | 190 | 16,038 | 12,490 | 13,020 | 10,186
GB Yellowtail Flounder | UNK | 213 | 3 | UNK | 300 | UNK |
SNE/MA Yellowtail Flounder | 90 | 68 | −75 | 90 | 68 | 90 | 68
CC/GOM Yellowtail Flounder | 662 | 511 | 20 | 736 | 511 | 848 | 511
American Plaice | 2,260 | 1,732 | 30 | 2,099 | 1,609 | 1,945 | 1,492
Witch Flounder | UNK | 993 | 13 | UNK | 993 | UNK | 993
GB Winter Flounder | 1,083 | 810 | 7 | 1,182 | 810 | 1,756 | 810
GOM Winter Flounder | 596 | 447 | −45 | 596 | 447 | 596 | 447
SNE/MA Winter Flounder | 1,228 | 727 | −7 | 1,228 | 727 | 1,228 | 727
Redfish | 15,451 | 11,552 | 5 | 15,640 | 11,785 | 15,852 | 11,942
White Hake | 3,885 | 2,938 | −20 | 3,898 | 2,938 | 3,916 | 2,938
Pollock | 51,680 | 40,172 | 88 | 53,940 | 40,172 | 57,240 | 40,172
N. Windowpane Flounder | 122 | 92 | −49 | 122 | 92 | 122 | 92
S. Windowpane Flounder | 631 | 473 | −24 | 631 | 473 | 631 | 473
Ocean Pout | 169 | 127 | −23 | 169 | 127 | 169 | 127
Atlantic Halibut | UNK | 104 | −34 | UNK | 104 | UNK | 104
Atlantic Wolffish | 120 | 90 | 10 | 120 | 90 | 120 | 90
SNE/MA = Southern New England/Mid-Atlantic; CC = Cape Cod; N = Northern; S = Southern.
Note: An empty cell indicates no OFL/ABC is adopted for that year. These catch limits will be set in a future action.

Annual Catch Limits

Development of Annual Catch Limits

The U.S. ABC for each stock is divided among the various fishery components to account for all sources of fishing mortality. First, an estimate of catch expected from state waters and the “other” sub-component (e.g., non-groundfish fisheries or some recreational groundfish fisheries) is deducted from the U.S. ABC. These sub-components are not subject to specific catch controls by the FMP. As a result, the state waters and other sub-components are not allocations, and these sub-components of the fishery are not subject to AMs if the catch limits are exceeded. After the state and other sub-components are deducted, the remaining portion of the U.S. ABC is distributed to the fishery components that receive an allocation for the stock. Components of the fishery that receive an allocation are subject to AMs if they exceed their respective catch limit during the fishing year. Fishing year 2016 overages of the GB cod, GOM cod, and witch flounder allocations are discussed in detail in Section 6, Adjustments Due to Fishing Year 2016 Overages.

Once the U.S. ABC is divided, sub-annual catch limits (sub-ACL) are set by reducing the amount of the ABC distributed to each component of the fishery to account for management uncertainty. Management uncertainty seeks to account for the possibility that management measures will result in a level of catch greater than expected. For each stock and fishery component, management uncertainty is estimated using the following criteria: enforceability and precision of management measures; adequacy of catch monitoring; latent effort; and whether the composition of catch includes landings and discards, or is all discards.

The total ACL is the sum of all of the sub-ACLs and state and other sub-components, and is the catch limit for a particular year after accounting for both scientific and management uncertainty. Landings and discards from all fisheries (commercial and recreational groundfish fisheries, state waters, and non-groundfish fisheries) are counted against the ACL for each stock.

Sector and Common Pool Allocations

For stocks allocated to sectors, the commercial groundfish sub-ACL is further divided into the non-sector (common pool) sub-ACL and the sector sub-ACL, based on the total vessel enrollment in sectors and the cumulative potential sector contributions (PSC) associated with those sectors. The preliminary sector and common pool sub-ACLs proposed in this action are based on fishing year 2018 PSCs and fishing year 2017 sector rosters. All permits enrolled in a sector, and the vessels associated with those permits, have until April 30, 2018, to withdraw from a sector and fish in the common pool for the 2018 fishing year. In addition to the enrollment delay, all permits that change ownership after December 1, 2017, may join a sector through April 30, 2018. We will publish final sector and common pool sub-ACLs based on final 2018 sector rosters as soon as possible after the start of the 2018 fishing year. These are adjusted later to reflect final sector enrollment.

Common Pool Total Allowable Catches

The common pool sub-ACL for each stock (except for SNE/MA winter flounder, windowpane flounder, ocean pout, Atlantic wolffish, and Atlantic halibut) is further divided into trimester TACs. The distribution of the common pool sub-ACLs into trimesters was adopted in Amendment 16 to the FMP (75 FR 18262; April 9, 2010) and was based on landing patterns at that time. Framework 57 proposes to revise the apportionment of TACs among the trimesters (discussed in detail in Section 5, Revisions to Common Pool Trimester Allocations). Once we project that 90 percent of the trimester TAC is caught for a stock, the trimester TAC area for that stock is closed for the remainder of the trimester. The closure applies to all common pool vessels fishing on a groundfish trip with gear capable of catching the pertinent stock. Any uncaught portion of the TAC in Trimester 1 or Trimester 2 is carried forward to the next trimester. Overages of the Trimester 1 or Trimester 2 TAC are deducted from the Trimester 3 TAC. Any overages of the total common pool sub-ACL are deducted from the following fishing year's common pool sub-ACL for that stock. Uncaught portions of any trimester TAC may not be carried over into the following fishing year. Table 6 summarizes the common pool trimester TACs proposed in this action. These trimester TACs are based on the proposed changes to the apportionment of the common pool sub-ACL among the trimesters that are also included in this action.

Incidental catch TACs are also specified for certain stocks of concern (i.e., stocks that are overfished or subject to overfishing) for common pool vessels fishing in the special management programs (i.e., special access programs (SAP) and the Regular B Days-at-Sea (DAS) Program), in order to limit the catch of these stocks under each program. Tables 7 through 9 summarize the proposed Incidental Catch TACs for each stock and the distribution of these TACs to each special management program.

Closed Area I Hook Gear Haddock SAP

Overall fishing effort by both common pool and sector vessels in the Closed Area I Hook Gear Haddock SAP is controlled by an overall TAC for GB haddock, which is the target species for this SAP. The GB haddock TAC for the SAP is based on the amount allocated to this SAP for the 2004 fishing year (1,130 mt) and adjusted according to the growth or decline of the western GB haddock biomass in relationship to its size in 2004. Based on this formula, the Council's proposed GB Haddock TAC for this SAP is 2,511 mt for the 2018 fishing year. Once this overall TAC is caught, the Closed Area I Hook Gear Haddock SAP will be closed to all groundfish vessels for the remainder of the fishing year.

Table 3—Proposed Catch Limits for the 2018 Fishing Year
[mt, live weight]
Stock | Total ACL | Groundfish sub-ACL | Preliminary sector sub-ACL | Preliminary common pool sub-ACL | Recreational sub-ACL | Midwater trawl fishery | Scallop fishery | Small-mesh fisheries | State waters sub- component | Other sub- component
GB Cod | 1,519 | 1,360 | 1,335 | 25 |  |  |  |  | 16 | 143
GOM Cod | 666 | 610 | 377 | 13 | 220 |  |  |  | 47 | 9
GB Haddock | 46,312 | 44,659 | 44,348 | 311 |  | 680 |  |  | 487 | 487
GOM Haddock | 12,409 | 12,097 | 8,643 | 95 | 3,358 | 122 |  |  | 95 | 95
GB Yellowtail Flounder | 206 | 169 | 167 | 3 |  |  | 33.1 | 4.0 | 0.0 | 0.0
SNE/MA Yellowtail Flounder | 66 | 42 | 34 | 8 |  |  | 4 |  | 2 | 17
CC/GOM Yellowtail Flounder | 490 | 398 | 381 | 18 |  |  |  |  | 51 | 41
American Plaice | 1,649 | 1,580 | 1,550 | 29 |  |  |  |  | 35 | 35
Witch Flounder | 948 | 849 | 830 | 19 |  |  |  |  | 40 | 60
GB Winter Flounder | 787 | 731 | 725 | 6 |  |  |  |  | 0 | 57
GOM Winter Flounder | 428 | 357 | 339 | 18 |  |  |  |  | 67 | 4
SNE/MA Winter Flounder | 700 | 518 | 456 | 62 |  |  |  |  | 73 | 109
Redfish | 10,986 | 10,755 | 10,696 | 59 |  |  |  |  | 116 | 116
White Hake | 2,794 | 2,735 | 2,713 | 22 |  |  |  |  | 29 | 29
Pollock | 38,204 | 37,400 | 37,163 | 237 |  |  |  |  | 402 | 402
N. Windowpane Flounder | 86 | 63 | na | 63 |  |  | 18 |  | 2 | 3
S. Windowpane Flounder | 457 | 53 | na | 53 |  |  | 158 |  | 28 | 218
Ocean Pout | 120 | 94 | na | 94 |  |  |  |  | 3 | 23
Atlantic Halibut | 100 | 77 | na | 77 |  |  |  |  | 21 | 2
Atlantic Wolffish | 84 | 82 | na | 82 |  |  |  |  | 1 | 1

Table 4—Proposed Catch Limits for the 2019 Fishing Year
[mt, live weight]
Stock | Total ACL | Groundfish sub-ACL | Preliminary sector sub-ACL | Preliminary common pool sub-ACL | Recreational sub-ACL | Midwater trawl fishery | Scallop fishery | Small-mesh fisheries | State waters sub- component | Other sub- component
GB Cod | 2,182 | 1,954 | 1,918 | 36 |  |  |  |  | 23 | 206
GOM Cod | 666 | 610 | 377 | 13 | 220 |  |  |  | 47 | 9
GB Haddock | 46,312 | 44,659 | 44,348 | 311 |  | 680 |  |  | 487 | 487
GOM Haddock | 11,803 | 11,506 | 8,222 | 90 | 3,194 | 116 |  |  | 91 | 91
GB Yellowtail Flounder | 291 | 239 | 235 | 4 |  |  | 47 | 6 | 0 | 0
SNE/MA Yellowtail Flounder | 66 | 32 | 26 | 6 |  |  | 15 |  | 2 | 17
CC/GOM Yellowtail Flounder | 490 | 398 | 381 | 18 |  |  |  |  | 51 | 41
American Plaice | 1,532 | 1,467 | 1,440 | 27 |  |  |  |  | 32 | 32
Witch Flounder | 948 | 849 | 830 | 19 |  |  |  |  | 40 | 60
GB Winter Flounder | 787 | 731 | 725 | 6 |  |  |  |  | 0 | 57
GOM Winter Flounder | 428 | 357 | 339 | 18 |  |  |  |  | 67 | 4
SNE/MA Winter Flounder | 700 | 518 | 456 | 62 |  |  |  |  | 73 | 109
Redfish | 11,208 | 10,972 | 10,911 | 60 |  |  |  |  | 118 | 118
White Hake | 2,794 | 2,735 | 2,713 | 22 |  |  |  |  | 29 | 29
Pollock | 38,204 | 37,400 | 37,163 | 237 |  |  |  |  | 402 | 402
N. Windowpane Flounder | 86 | 63 |  | 63 |  |  | 18 |  | 2 | 3
S. Windowpane Flounder | 457 | 53 |  | 53 |  |  | 158 |  | 28 | 218
Ocean Pout | 120 | 94 |  | 94 |  |  |  |  | 3 | 23
Atlantic Halibut | 100 | 77 |  | 77 |  |  |  |  | 21 | 2
Atlantic Wolffish | 84 | 82 |  | 82 |  |  |  |  | 1 | 1

Table 5—Proposed Catch Limits for the 2020 Fishing Year
[mt, live weight]
Stock | Total ACL | Groundfish sub-ACL | Preliminary sector sub-ACL | Preliminary common pool sub-ACL | Recreational sub-ACL | Midwater trawl fishery | Scallop fishery | Small-mesh fisheries | State waters sub- component | Other sub- component
GB Cod | 2,182 | 1,954 | 1,918 | 36 |  |  |  |  | 23 | 206
GOM Cod | 666 | 610 | 377 | 13 | 220 |  |  |  | 47 | 9
GB Haddock | 69,509 | 67,027 | 66,560 | 467 |  | 1,020 |  |  | 731 | 731
GOM Haddock | 9,626 | 9,384 | 6,705 | 74 | 2,605 | 95 |  |  | 74 | 74
GB Yellowtail Flounder |  |  |  |  |  |  | 0.0 | 0.0 | 0.0 | 0.0
SNE/MA Yellowtail Flounder | 66 | 31 | 25 | 6 |  |  | 16 |  | 2 | 17
CC/GOM Yellowtail Flounder | 490 | 398 | 381 | 18 |  |  |  |  | 51 | 41
American Plaice | 1,420 | 1,361 | 1,335 | 25 |  |  |  |  | 30 | 30
Witch Flounder | 948 | 849 | 830 | 19 |  |  |  |  | 40 | 60
GB Winter Flounder | 787 | 731 | 725 | 6 |  |  |  |  | 0 | 57
GOM Winter Flounder | 428 | 357 | 339 | 18 |  |  |  |  | 67 | 4
SNE/MA Winter Flounder | 700 | 518 | 456 | 62 |  |  |  |  | 73 | 109
Redfish | 11,357 | 11,118 | 11,057 | 61 |  |  |  |  | 119 | 119
White Hake | 2,794 | 2,735 | 2,713 | 22 |  |  |  |  | 29 | 29
Pollock | 38,204 | 37,400 | 37,163 | 237 |  |  |  |  | 402 | 402
N. Windowpane Flounder | 86 | 63 |  | 63 |  |  |  |  | 2 | 3
S. Windowpane Flounder | 457 | 53 |  | 53 |  |  | 158 |  | 28 | 218
Ocean Pout | 120 | 94 |  | 94 |  |  |  |  | 3 | 23
Atlantic Halibut | 100 | 77 |  | 77 |  |  |  |  | 21 | 2
Atlantic Wolffish | 84 | 82 |  | 82 |  |  |  |  | 1 | 1

Table 6—Proposed Fishing Years 2018-2020 Common Pool Trimester TACs
[mt, live weight]
Stock | 2018: Trimester 1 | 2018: Trimester 2 | 2018: Trimester 3 | 2019: Trimester 1 | 2019: Trimester 2 | 2019: Trimester 3 | 2020: Trimester 1 | 2020: Trimester 2 | 2020: Trimester 3
GB Cod | 7.0 | 8.5 | 9.6 | 10.1 | 12.3 | 13.7 | 10.1 | 12.3 | 13.7
GOM Cod | 6.2 | 4.2 | 2.3 | 6.2 | 4.2 | 2.3 | 6.2 | 4.2 | 2.3
GB Haddock | 84.0 | 102.6 | 124.4 | 84.0 | 102.6 | 124.4 | 126.1 | 154.1 | 186.7
GOM Haddock | 25.6 | 24.7 | 44.6 | 24.4 | 23.5 | 42.4 | 19.9 | 19.1 | 34.6
GB Yellowtail Flounder | 0.5 | 0.8 | 1.3 | 0.7 | 1.1 | 1.9 |  |  |
SNE/MA Yellowtail Flounder | 1.7 | 2.3 | 4.2 | 1.3 | 1.7 | 3.2 | 1.3 | 1.7 | 3.1
CC/GOM Yellowtail Flounder | 10.0 | 4.6 | 3.0 | 10.0 | 4.6 | 3.0 | 10.0 | 4.6 | 3.0
American Plaice | 21.8 | 2.4 | 5.3 | 20.3 | 2.2 | 4.9 | 18.8 | 2.0 | 4.6
Witch Flounder | 10.4 | 3.8 | 4.7 | 10.4 | 3.8 | 4.7 | 10.4 | 3.8 | 4.7
GB Winter Flounder | 0.5 | 1.4 | 4.1 | 0.5 | 1.4 | 4.1 | 0.5 | 1.4 | 4.1
GOM Winter Flounder | 6.5 | 6.7 | 4.4 | 6.5 | 6.7 | 4.4 | 6.5 | 6.7 | 4.4
Redfish | 14.8 | 18.4 | 26.1 | 15.1 | 18.7 | 26.6 | 15.3 | 19.0 | 27.0
White Hake | 8.3 | 6.8 | 6.8 | 8.3 | 6.8 | 6.8 | 8.3 | 6.8 | 6.8
Pollock | 66.4 | 83.0 | 87.7 | 66.4 | 83.0 | 87.7 | 66.4 | 83.0 | 87.7
Note. An empty cell indicates that no catch limit has been set yet for these stocks. These catch limits will be set in a future management action.

Table 7—Proposed Common Pool Incidental Catch TACs for the 2018-2020 Fishing Years
[mt, live weight]
Stock | Percentage of common pool sub-ACL | 2018 | 2019 | 2020
GB Cod | 2 | 0.50 | 0.72 | 0.72
GOM Cod | 1 | 0.13 | 0.13 | 0.13
GB Yellowtail Flounder | 2 | 0.05 | 0.07 | 0.00
CC/GOM Yellowtail Flounder | 1 | 0.18 | 0.18 | 0.18
American Plaice | 5 | 1.47 | 1.37 | 1.27
Witch Flounder | 5 | 0.95 | 0.95 | 0.95
SNE/MA Winter Flounder | 1 | 0.62 | 0.62 | 0.62

Table 8—Percentage of Incidental Catch TACs Distributed to Each Special Management Program
Stock | Regular B DAS program | Closed area I hook gear haddock SAP | Eastern US/CA haddock SAP
GB Cod | 50 | 16 | 34
GOM Cod | 100 |  |
GB Yellowtail Flounder | 50 |  | 50
CC/GOM Yellowtail Flounder | 100 |  |
American Plaice | 100 |  |
Witch Flounder | 100 |  |
SNE/MA Winter Flounder | 100 |  |
White Hake | 100 |  |

Table 9—Proposed Fishing Years 2018-2020 Incidental Catch TACs for Each Special Management Program
[mt, live weight]
Stock | Regular B DAS program: 2018 | Regular B DAS program: 2019 | Regular B DAS program: 2020 | Closed area I hook gear haddock SAP: 2018 | Closed area I hook gear haddock SAP: 2019 | Closed area I hook gear haddock SAP: 2020 | Eastern U.S./Canada haddock SAP: 2018 | Eastern U.S./Canada haddock SAP: 2019 | Eastern U.S./Canada haddock SAP: 2020
GB Cod | 0.25 | 0.36 | 0.36 | 0.08 | 0.12 | 0.12 | 0.17 | 0.25 | 0.25
GOM Cod | 0.13 | 0.13 | 0.13 | n/a | n/a | n/a | n/a | n/a | n/a
GB Yellowtail Flounder | 0.03 | 0.04 | 0.00 | n/a | n/a | n/a | 0.03 | 0.04 | 0.00
CC/GOM Yellowtail Flounder | 0.18 | 0.18 | 0.18 | n/a | n/a | n/a | n/a | n/a | n/a
American Plaice | 1.47 | 1.37 | 1.27 | n/a | n/a | n/a | n/a | n/a | n/a
Witch Flounder | 0.95 | 0.95 | 0.95 | n/a | n/a | n/a | n/a | n/a | n/a
SNE/MA Winter Flounder | 0.62 | 0.62 | 0.62 | n/a | n/a | n/a | n/a | n/a | n/a

4. Default Catch Limits for the 2021 Fishing Year

Framework 53 established a mechanism for setting default catch limits in the event a future management action is delayed. If final catch limits have not been implemented by the start of a fishing year on May 1, then default catch limits are set at 35 percent of the previous year's catch limit, effective until July 31 of that fishing year, or when replaced by new catch limits. If this value exceeds the Council's recommendation for the upcoming fishing year, the default catch limits will be reduced to an amount equal to the Council's recommendation for the upcoming fishing year. Because groundfish vessels are not able to fish if final catch limits have not been implemented, this measure was established to prevent disruption to the groundfish fishery. Additional description of the default catch limit mechanism is provided in the preamble to the Framework 53 final rule (80 FR 25110; May 1, 2015).

The default catch limits for 2021 are shown in Table 10. The default limits would become effective May 1, 2021, until replaced by final specifications, although they will remain in effect through no later no later than July 31, 2021. The preliminary sector and common pool sub-ACLs in Table 10 are based on existing 2017 sector rosters, and will be adjusted for new specifications beginning in fishing year 2021 based on rosters from the 2020 fishing year. In addition, prior to the start of the 2021 fishing year, we will evaluate whether any of the default catch limits announced in this rule exceed the Council's recommendations for 2021. If necessary, we will announce adjustments prior to May 1, 2021.

Table 10—Default Specifications for the 2021 Fishing Year
[mt, live weight]
Stock | U.S. ABC | Total ACL | Groundfish sub-ACL | Preliminary sector sub-ACL | Preliminary common pool sub-ACL | Midwater trawl fishery
GOM Cod | 800 | 764 | 684 | 671 | 13 |
GB Haddock | 246 | 233 | 213 | 132 | 4 |
GOM Haddock | 25,590 | 24,328 | 23,460 | 23,296 | 163 | 1,020
GB Yellowtail Flounder | 3,565 | 3,369 | 3,284 | 2,347 | 26 | 95
SNE/MA Yellowtail Flounder | 0 | 0 | 0 | 0 | 0 |
CC/GOM Yellowtail Flounder | 24 | 23 | 11 | 9 | 2 |
American Plaice | 179 | 172 | 139 | 133 | 6 |
Witch Flounder | 522 | 497 | 476 | 467 | 9 |
GB Winter Flounder | 348 | 332 | 297 | 291 | 7 |
GOM Winter Flounder | 284 | 276 | 256 | 254 | 2 |
SNE/MA Winter Flounder | 156 | 150 | 125 | 119 | 6 |
Redfish | 254 | 245 | 181 | 160 | 22 |
White Hake | 4,180 | 3,975 | 3,891 | 3,870 | 21 |
Pollock | 1,028 | 978 | 957 | 950 | 8 |
N. Windowpane Flounder | 14,060 | 13,371 | 13,090 | 13,007 | 83 |
S. Windowpane Flounder | 32 | 30 | 22 | 0 | 22 |
Ocean Pout | 166 | 160 | 18 | 0 | 18 |
Atlantic Halibut | 44 | 42 | 33 | 0 | 33 |
Atlantic Wolffish | 36 | 35 | 27 | 0 | 27 |

5. Revisions to Common Pool Trimester Allocations

As discussed above in Section 3, Catch Limits for Fishing Years 2018-2020, the common pool sub-ACL for each stock (except for SNE/MA winter flounder, windowpane flounder, ocean pout, Atlantic wolffish, and Atlantic halibut) is further divided into trimester TACs. The percentages of the common pool sub-ACL allocated to each trimester, as determined in Amendment 16, are shown in Table 11. The Council developed this initial distribution based on recent fishing effort at the time after considering the influence of regulatory changes on recent landings patterns. Amendment 16 specified that the trimester TAC apportionment could be adjusted on a biennial basis with specifications based on the most recent 5-year period available. Framework 57 would grant the Regional Administrator authority to modify the trimester TAC apportionments, for stocks that have experienced early closures in Trimester 1 or 2, on a biennial basis using the process specified in Amendment 16.

Framework 57 proposes to revise the apportionment of the common pool sub-ACL among the trimesters, using the calculation method specified in Amendment 16, for stocks that have experienced early closure in Trimester 1 or 2 since the 2010 fishing year. The stocks that meet these criteria are: GB cod; GOM cod; SNE/MA yellowtail flounder; Cape Cod/GOM yellowtail flounder; American plaice; and witch flounder. The Trimester 1 portion of the sub-ACL for each of these stocks would increase, with the exception of SNE/MA yellowtail, which remains unchanged. The trimester 2 portion of the sub-ACL for each of these stocks would be reduced. The trimester 3 portion of the TAC would be unchanged for GB cod; increased for SNE/MA yellowtail flounder; and decreased for GOM cod, Cape Cod/GOM yellowtail flounder, American plaice, and witch flounder. The proposed trimester TAC apportionments for these stocks are shown in Table 12.

Table 11—Trimester TAC Apportionments Set in Amendment 16
Stock | Trimester 1 (percent) | Trimester 2 (percent) | Trimester 3 (percent)
GB Cod | 25 | 37 | 38
GOM Cod | 27 | 36 | 37
GB Haddock | 27 | 33 | 40
GOM Haddock | 27 | 26 | 47
GB Yellowtail | 19 | 30 | 52
SNE/MA Yellowtail | 21 | 37 | 42
CC/GOM Yellowtail | 35 | 35 | 30
American Plaice | 24 | 36 | 40
Witch Flounder | 27 | 31 | 42
GB Winter | 8 | 24 | 69
GOM Winter | 37 | 38 | 25
Redfish | 25 | 31 | 44
White Hake | 38 | 31 | 31
Pollock | 28 | 35 | 37

Table 12—Proposed Revisions to Trimester TAC Apportionments
Stock | Trimester 1 (percent) | Trimester 2 (percent) | Trimester 3 (percent)
GB Cod | 28 | 34 | 38
GOM Cod | 49 | 33 | 18
SNE/MA Yellowtail | 21 | 28 | 51
CC/GOM Yellowtail | 57 | 26 | 17
American Plaice | 74 | 8 | 18
Witch Flounder | 55 | 20 | 25

6. Adjustments Due to Fishing Year 2016 Overages

If the overall ACL is exceeded due to catch from vessels fishing in state waters outside of the FMP or from vessels fishing in non-groundfish fisheries that do not receive an allocation, the overage is distributed to the components of the fishery with an allocation. If a fishery component's catch and its share of the ACL overage exceed the component's allocation, then the applicable AMs must be implemented. In the case of the commercial groundfish fishery, the AMs require a reduction of the sector or common pool sub-ACL following an overage.

In fishing year 2016, the overall ACL was exceeded for GOM cod and witch flounder, and the U.S. ABC was exceeded for GB cod (Table 13). This proposed rule includes a description of fishing year 2016 catch overages and required adjustments to fishing year 2018 allocations. These adjustments are not part of Framework 57. We are including them in conjunction with Framework 57 proposed measures for expediency purposes, and because they relate to the catch limits proposed in Framework 57.

Total GB cod catch exceeded the total ACL and U.S. ABC due to a minor overage by the common pool (2.8 mt) and higher than expected catches by the state and other sub-components. Sectors did not fully harvest their allocation. The overage of the common pool sub-ACL has already been addressed, as required, through a reduction of the 2017 common pool sub-ACL (82 FR 51778; November 8, 2017). The remaining overage (166 mt) must be paid back by the common pool and sectors in proportion to their shares of the 2016 groundfish fishery ACL. The sector sub-ACL underage in 2016 reduces the adjustment to the 2018 sector sub-ACL. No other fishery has an allocation of GB cod, and as a result, this overage is distributed only to sectors and the common pool.

Total GOM cod catch exceeded the total ACL due to an overage by the recreational fishery and higher than expected catch by the state sub-component. Both the sector and common pool sub-ACLs were underharvested. The recreational fishery's overage of its 2016 sub-ACL has been addressed by a change in recreational fishery management measures as an AM for fishing year 2017 (82 FR 35457; July 31, 2017). The remaining overage (50 mt) due to state waters catch must be distributed among the common pool, sectors, and the recreational fishery in proportion to their shares of the 2016 groundfish fishery ACL. The commercial fishery AM for overages is a pound-for-pound payback that results in a deduction of the overage amount from the fishing year 2018 commercial fishery sub-ACLs. The sector and common pool sub-ACL underages in 2016 reduce the adjustment to the 2018 sector and common pool sub-ACLs. The portion of the overage allocated to the recreational fishery does not result in a pound-for-pound reduction of that sub-ACL. Rather, the recreational AM requires management measures for fishing year 2018 to be adjusted to address the overage.

Total witch flounder catch exceeded the total ACL due to higher than expected catch from vessels fishing in state waters outside of the FMP. Both the sector and common pool sub-ACLs were underharvested. Only the commercial groundfish fishery has an allocation for this stock, so the remaining overage (38 mt) must be paid back by the common pool and sectors in proportion to their shares of the 2016 groundfish fishery ACL. The sector and common pool sub-ACL underages in 2016 reduce the adjustment to the 2018 sector and common pool sub-ACLs.

Each sub-component's payback amounts for these stocks is shown in Table 14. Revised 2017 allocations, incorporating these payback amounts, for these stocks are shown in Table 15.

Table 13—2016 ABCs, ACLs, Catch, and Overages
[mt, live weight]
Stock | U.S. ABC | Total ACL | Catch | Overage | Amount to be paid back
GB Cod | 762 | 730 | 1,132.1 | 402.1 | 165.97
GOM Cod | 500 | 473 | 633.7 | 160.7 | 37.66
Witch Flounder | 878 | 441 | 460.3 | 19.3 | 19.20

Table 14—2016 Payback Amounts
[mt, live weight]
Stock | Total | Sector | Common pool | Recreational
GB Cod | 402.1 | 162.57 | 3.40 | n/a
GOM Cod | 160.7 | 21.05 | 0.00 | 16.61
Witch Flounder | 19.3 | 19.15 | 0.05 | n/a
Note: “n/a” indicates that the stock is not allocated to that sub-component of the fishery. A value of 0.00 indicates that no payback is required.

Table 15—Revised 2018 Allocations
[mt, live weight]
Stock | Total ACL | Groundfish sub-ACL | Initial preliminary sector sub-ACL | Revised preliminary sector sub-ACL | Initial preliminary common pool sub-ACL | Revised preliminary common pool sub-ACL
GB Cod | 1,519 | 1,360 | 1,335.17 | 1,172.61 | 25.13 | 21.73
GOM Cod | 666 | 610 | 376.92 | 355.87 | 12.73 | unchanged
Witch Flounder | 948 | 849 | 830.09 | 810.94 | 18.93 | 18.88

7. Revisions to Atlantic Halibut Accountability Measures

The FMP includes two reactive AMs for Atlantic halibut that affect the Federal commercial groundfish fishery. If the Atlantic halibut ACL is exceeded by an amount greater than the uncertainty buffer (i.e., the ABC is exceeded), then commercial groundfish vessels are prohibited from retaining Atlantic halibut and several gear-restricted areas are implemented for commercial groundfish vessels (Figure 1). When the Atlantic halibut AM is triggered, trawl vessels fishing in the Atlantic Halibut Trawl Gear AM Area may only use a haddock separator trawl, a Ruhle trawl, a rope separator trawl, or other approved gear. When in effect, groundfish vessels with gillnet or longline gear may not fish or be in the Atlantic Halibut Fixed Gear AM Areas, unless transiting with gear stowed or using approved gear.

Framework 57 would extend the zero-possession AM to all Federal permit holders (including federally-permitted scallop, lobster, and highly migratory species general category vessels). Vessels issued only a Northeast multispecies charter/party permit, an Atlantic highly migratory species angling permit, and/or an Atlantic highly migratory species charter/headboat permit would be exempt from the zero-possession AM. Dealer data documents that federally-permitted vessels on non-groundfish trips, especially commercial vessels with lobster and highly migratory species permits, land significant amounts of halibut. The intent of expanding the AM is to reduce the catch of halibut by federally-permitted vessels not currently subject to the AM and to facilitate enforcement of Federal fishery limits. It is difficult to enforce the prohibition of possession at sea when some federally-permitted vessels can possess Atlantic halibut in state waters. Prohibiting all federally-permitted vessels from possessing Atlantic halibut can be enforced at the dock as well as at sea. This is designed to ensure a reduction in directed fishing effort by federally-permitted vessels that is expected to increase the probability that catch will be below the ACL.

Framework 57 would also modify the gear-restricted AM areas for Federal groundfish vessels using updated information. Based on an updated evaluation of the existing AM areas, the areas would be modified by allowing access to places and times where Atlantic halibut encounter rates are low, and protect areas and times where encounter rates are highest. This would allow groundfish trawl and fixed gear vessels additional flexibility while continuing to reduce catch of halibut when the AMs are triggered (Figure 2). Framework 57 would eliminate the Fixed Gear AM Area 1 on Stellwagen Bank; exempt longline gear from Fixed Gear AM Area 2 on Platts Bank; allow gillnet gear in Fixed Gear AM Area 2 from November through February; and allow standard trawl gear in the Trawl Gear AM Area between 41 degrees 40 minutes N latitude and 42 degrees N latitude from April through July (see dashed line in Figure 2). These modifications would likely have minimal impacts on the Atlantic halibut stock due to the low encounter rates and low catch rates in the seasons and areas included, and would preserve fishing opportunities for vessels targeting other species.

8. Revisions to Southern Windowpane Flounder AMs for Non-Groundfish Trawl Vessels

The southern windowpane flounder AMs are gear restricted areas that affect groundfish trawl vessels and non-groundfish trawl vessels using a codend mesh size of 5 inches (12.7 cm) or greater (see Figure 3). This includes vessels that target summer flounder, scup, and skates. The AM for large-mesh non-groundfish fisheries is implemented if the total ACL is exceeded by more than the management uncertainty buffer and catch by the other sub-component exceeds what was expected. When the AM is triggered, large-mesh non-groundfish vessels fishing with trawl gear with codend mesh size of 5 inches (12.7 cm) or greater are required to use selective trawl gear to minimize the catch of flatfish in the AM areas. Approved gears include the separator trawl, Ruhle trawl, mini-Ruhle trawl, and rope trawl, which are inefficient at catching the species targeted by the non-groundfish large-mesh trawl fleet. The FMP includes several provisions that allow a reduction in the size and duration of the AM for groundfish vessels if certain stock status criteria are met. Framework 57 would extend similar provisions to the large mesh non-groundfish fleet and modify the current gear restricted areas that would apply to the non-groundfish fleet when an AM is triggered.

Reducing the Size of the AM

Framework 57 would scale the size of the AM areas based on the condition of the stock and catch in the year after the overage. Similar to the AM for the groundfish fishery, when the stock is rebuilt and the biomass criterion (defined below) is greater than the fishing year catch, the AM areas may be adjusted to reflect these conditions. Based on an updated evaluation of the existing AM areas, Framework 57 would reduce the size of the AM areas and shorten the seasons for non-groundfish trawl vessels using a 5-inch (12.7-cm) mesh or greater cod end. These modifications would allow additional flexibility for affected vessels while continuing to reduce impacts on the southern windowpane stock, similar to provisions already implemented for the groundfish fishery.

When the large AM area has been triggered, we would then determine whether the following criteria are met:

(1) The stock is rebuilt; and

(2) The biomass criterion is greater than the fishing year catch. Framework 57 defines the biomass criterion as the 3-year centered average of the 3 most recent surveys multiplied by 75 percent of the FMSY of the most recent assessment. FMSY is the fishing mortality rate that, if applied over the long term, would result in maximum sustainable yield.

If we determine that these criteria are met, the small AM area would be implemented rather than the large AM area. This AM trigger would better account for the uncertainty associated with this index-based stock because it would evaluate an overage in the context of the biomass and exploitation trends in the stock assessment. As explained in the EA, using survey information to determine the size of the AM is appropriate because windowpane flounder is assessed with an index-based method, possession is prohibited, and the ABCs and ACLs are not based on a projection that accounts for possible increases in biomass over time. This change would minimize the economic impacts of the AM for a rebuilt stock, while still correcting for any overage and mitigating potential biological consequences.

Reducing the Duration of the AM

This action also proposes to grant the Regional Administrator authority to remove the southern windowpane flounder AM early for non-groundfish trawl vessels if certain criteria are met. If an overage in year 1 triggers the AM for year 3, and we determine that the applicable windowpane flounder ACL was not exceeded in year 2, then the Regional Administrator would be authorized to remove the AM on or after September 1 once year-end data for year 2 are complete. This reduced duration would not occur if we determine during year 3 that a year 3 overage of the southern windowpane flounder ACL has occurred. Final year-end catch data are not available until several months after the end of the fishing year, which results in delayed implementation of AMs for southern windowpane flounder. Because of this delay, it is possible that, although an overage occurs in year 1, a subsequent overage may not occur in year 2. If an overage does not occur in year 2, implementing an AM for the entire duration of year 3 may not be necessary. An underage in year 2, coupled with an AM for at least 4 months of year 3, would sufficiently correct and mitigate any overage for southern windowpane flounder, while continuing to provide an incentive to avoid future overages. This proposed provision is similar to provisions already implemented for the groundfish fishery.

Modification of the Gear-Restricted Areas

Framework 57 would revise the area and season of the AM areas for non-groundfish trawl vessels using a codend mesh size of 5 inches (12.7 cm) or greater based on an updated evaluation of the existing AM areas using recent data (see Figure 4). The geographic area of the small AM area would remain unchanged, but the AM would be in effect from September through April, rather than the whole year. The large AM area south of Long Island would remain unchanged, but the large AM area east of Long Island would shrink to a smaller geographic area made up of the small AM area and the eastern most 10-minute square of the current large AM area. Both large AM areas would be closed year-round when triggered. These changes would not affect the AM areas applicable to groundfish trawl vessels. Based on recent data, these modifications are likely to have minimal impacts on the southern windowpane flounder stock because of the low bycatch ratios documented in the areas that would no longer be closed. The revised areas are intended to provide additional opportunities for the non-groundfish fleet to pursue target stocks, while still maintaining the necessary conservation benefits of the AMs.

9. Revision to the SNE/MA Yellowtail Flounder AMs for Scallop Vessels

The scallop fishery is allocated sub-ACLs for four stocks: GB yellowtail flounder; SNE/MA yellowtail flounder; northern windowpane flounder; and southern windowpane flounder. These allocations are made to manage the scallop fishery's bycatch of these stocks and mitigate potential negative impacts to the groundfish fishery. Framework 47 (77 FR 26104; May 2, 2012) established a policy for triggering scallop fishery AMs. The AMs are triggered if the scallop fishery either exceeds its sub-ACL for a stock and the overall ACL for that stock is exceeded, or the scallop fishery exceeds its sub-ACL for a stock by 50 or more percent. Framework 56 (82 FR 35660; August 1, 2017) made a change to this policy for GB yellowtail flounder and northern windowpane flounder to remove the second trigger for the 2017 and 2018 fishing years. Thus, the AMs for GB yellowtail flounder and northern windowpane flounder are triggered only if the scallop fishery exceeds its sub-ACL and the overall ACL is exceeded. Framework 57 would expand that change to the SNE/MA yellowtail flounder stock for the 2018 fishing year.

For fishing year 2018, the AM for the scallop fishery's sub-ACL would be triggered only if the scallop fishery's sub-ACL and the overall ACL for the stock is exceeded. Framework 57 would reduce the 2018 SNE/MA yellowtail flounder ABC by 75 percent when compared to 2017. Overfishing occurs when the overfishing limit is exceeded and is likely to occur only if the total ACL is exceeded, which would trigger the AM to prevent subsequent ACL overages and correct the cause of the overage. The intent of this change to the trigger is to provide flexibility for the scallop fishery to better achieve optimal yield, despite a reduction in the ACL, while continuing to prevent overfishing. To align with changes to the AM triggers for GB yellowtail flounder and northern windowpane flounder, and to reduce the potential risk for the groundfish fishery, this change would be effective for 1 year.

10. Recreational Fishery Measures

GB cod is not allocated to the recreational fishery. Instead, a catch target is set. Recreational fishery management measures were designed and put in place to control recreational catch. The Council set the recreational measures for GB cod in 2010 through Amendment 16. The current recreational minimum size for GB cod is 22 inches (55.9 cm), and private recreational vessels have a possession limit of 10 fish per person per day. There is no possession limit for charter or party vessels. The recreational fishery does not have an allocation of GB cod, and as a result, no AMs apply to this fishery in the event of an ACL overage. The Council must undertake an action (amendment or framework adjustment) to make changes to the recreational measures.

In response to increasing recreational catch in recent years and unusually high recreational catch in 2016 that contributed to an ACL overage, the Council calculated a recreational catch target for GB cod of 138 mt for 2018-2020. This catch target was calculated using the average catch (landings and discards) of the most recent 5 calendar years included in the GB cod stock assessment. This catch target was used in setting the values of the state and other sub-components (see Appendix II of the EA). To prevent future overages of the GB cod ACL, Framework 57 would give the Regional Administrator authority to set recreational measures for fishing years 2018 and 2019 to prevent the catch target from being exceeded. After consultation with the Council, any changes to recreational measures would be made consistent with the Administrative Procedure Act.

This action only proposes to grant the Regional Administrator authority to change recreational management measures for GB cod. However, no changes to recreational measures are included in this action. A separate rulemaking expected in March 2018 will consider GOM cod and haddock and GB cod recreational management measures for the 2018 fishing year.

11. Fishing Year 2018 Annual Measures Under Regional Administrator Regulatory Authority

The FMP and its implementing regulations gives the Regional Administrator authority to implement certain types of management measures for the common pool fishery, the U.S./Canada Management Area, and Special Management Programs on an annual basis, or as needed. This proposed rule includes a description of these management measures that are being considered for the 2018 fishing year to provide an opportunity for the public to comment on whether the proposed measures are appropriate. These measures are not part of Framework 57, and were not specifically proposed by the Council. We are proposing them in conjunction with Framework 57 measures in this action for expediency purposes, and because they relate to the catch limits proposed in Framework 57.

Common Pool Trip Limits

Tables 16 and 17 provide a summary of the current common pool trip limits for fishing year 2017 and the initial trip limits proposed for fishing year 2018. The proposed 2018 trip limits were developed after considering changes to the common pool sub-ACLs and potential sector enrollment, proposed trimester TACs for 2018, catch rates of each stock during 2017, and other available information.

The default cod trip limit is 300 lb (136 kg) for Handgear A vessels and 75 lb (34 kg) for Handgear B vessels. If the GOM or GB cod landing limit for vessels fishing on a groundfish DAS drops below 300 lb (136 kg), then the respective Handgear A cod trip limit must be reduced to the same limit. Similarly, the Handgear B trip limit must be adjusted proportionally (rounded up to the nearest 25 lb (11 kg)) to the DAS limit. This action proposes a GOM cod landing limit of 50 lb (23 kg) per DAS for vessels fishing on a groundfish DAS, which is 94 percent lower than the default limit specified in the regulations for these vessels (800 lb (363 kg) per DAS). As a result, the proposed Handgear A trip limit for GOM cod would be reduced to 50 lb (23 kg) per trip, and the proposed Handgear B trip limit for GOM cod would be maintained at 25 lb (11 kg) per trip. This action proposes a GB cod landing limit of 100 lb (45 kg) per DAS for vessels fishing on a groundfish DAS, which is 95 percent lower than the 2,000-lb (907-kg) per DAS default limit specified in the regulations for these vessels. As a result, the proposed Handgear A trip limit for GB cod would be 100 lb (45 kg) per trip, and the proposed Handgear B trip limit for GB cod would be 25 lb (11 kg) per trip.

Vessels with a Small Vessel category permit can possess up to 300 lb (136 kg) of cod, haddock, and yellowtail, combined, per trip. For the 2018 fishing year, we are proposing that the maximum amount of GOM cod and haddock (within the 300-lb (136-kg) trip limit) be set equal to the possession limits applicable to multispecies DAS vessels (see Table 16). This adjustment is necessary to ensure that the trip limit applicable to the Small Vessel category permit is consistent with reductions to the trip limits for other common pool vessels, as described above.

Table 16—Proposed Common Pool Trip Limits for the 2018 Fishing Year
Stock | Current 2017 trip limit | Proposed 2018 trip limit
GB Cod (outside Eastern U.S./Canada Area) | Possession Prohibited | 100 lb (45 kg) per DAS, up to 200 lb (91 kg) per trip
GB Cod (inside Eastern U.S./Canada Area) |  | 100 lb (45 kg) per DAS, up to 500 (227 kg) lb per trip.
GOM Cod | 25 lb (11 kg) per DAS, up to 100 lb (45 kg) per trip | 50 lb (23 kg) per DAS, up to 100 lb (45 kg) per trip.
GB Haddock | 100,000 lb (45,359 kg) per trip.
GOM Haddock | 500 lb (227 kg) per DAS, up to 1,000 lb (454 kg) per trip | 1,000 lb (454 kg) per DAS, up to 2,000 lb (907 kg) per trip.
GB Yellowtail Flounder | 100 lb (45 kg) per trip.
SNE/MA Yellowtail Flounder | 500 lb (227 kg) per DAS, up to 1,000 lb per trip | 100 lb (45 kg) per DAS, up to 200 lb (91 kg) per trip.
Cape Cod (CC)/GOM Yellowtail Flounder | 750 lb (340 kg) per DAS, up to 1,500 lb (680 kg) per trip.
American plaice | 500 lb (227 kg) per trip | 750 lb (340 kg) per DAS, up to 1,500 lb (680 kg) per trip.
Witch Flounder | 400 lb (181 kg) per trip.
GB Winter Flounder | 250 lb (113 kg) per trip.
GOM Winter Flounder | 2,000 lb (907 kg) per trip | 1,000 lb (454 kg) per trip.
SNE/MA Winter Flounder | 2,000 lb (907 kg) per DAS, up to 4,000 lb (1,814 kg) per trip.
Redfish | Unlimited.
White hake | 1,500 lb (680 kg) per trip.
Pollock | Unlimited.
Atlantic Halibut | 1 fish per trip.
Windowpane Flounder |
Ocean Pout | Possession Prohibited.
Atlantic Wolffish |

Table 17—Proposed Cod Trips Limits for Handgear A, Handgear B, and Small Vessel Category Permits for the 2018 Fishing Year
Permit | Current 2017 trip limit | Proposed 2017 trip limit
Handgear A GOM Cod | 25 lb (11 kg) per trip | 50 lb (23 kg) per trip.
Handgear A GB Cod | Possession Prohibited | 100 lb (45 kg) per trip.
Handgear B GOM Cod | 25 lb (11 kg) per trip.
Handgear B GB Cod | Possession Prohibited | 25 lb (11 kg) per trip.
Small Vessel Category | 300 lb (136 kg) of cod, haddock, and yellowtail flounder combined; additionally, vessels are limited to the common pool DAS limit for all stocks.

Closed Area II Yellowtail Flounder/Haddock SAP

This action proposes to allocate zero trips for common pool vessels to target yellowtail flounder within the Closed Area II Yellowtail Flounder/Haddock SAP for fishing year 2018. Vessels could still fish in this SAP in 2018 to target haddock, but must fish with a haddock separator trawl, a Ruhle trawl, or hook gear. Vessels would not be allowed to fish in this SAP using flounder trawl nets. This SAP is open from August 1, 2018, through January 31, 2019.

We have the authority to determine the allocation of the total number of trips into the Closed Area II Yellowtail Flounder/Haddock SAP based on several criteria, including the GB yellowtail flounder catch limit and the amount of GB yellowtail flounder caught outside of the SAP. The FMP specifies that no trips should be allocated to the Closed Area II Yellowtail Flounder/Haddock SAP if the available GB yellowtail flounder catch is insufficient to support at least 150 trips with a 15,000-lb (6,804-kg) trip limit (or 2,250,000 lb (1,020,600 kg)). This calculation accounts for the projected catch from the area outside the SAP. Based on the proposed fishing year 2018 GB yellowtail flounder groundfish sub-ACL of 372,581 lb (169,000 kg), there is insufficient GB yellowtail flounder to allocate any trips to the SAP, even if the projected catch from outside the SAP area is zero. Further, given the low GB yellowtail flounder catch limit, catch rates outside of this SAP are more than adequate to fully harvest the 2018 GB yellowtail flounder allocation.

12. Administrative Regulatory Corrections Under Secretarial Authority

This rule proposes to correct a minor error in the regulations that specify the apportionment of the common pool sub-ACLs among the trimesters. This change is proposed under the authority of section 305(d) of the Magnuson-Stevens Act, which states that the Secretary of Commerce may promulgate regulations necessary to ensure that FMPs or amendments are implemented in accordance with the Magnuson-Stevens Act. The proposed change to the regulations is necessary to correct a rounding error and ensure that not more than 100 percent of the common pool sub-ACL is allocated among the trimesters.

In § 648.82(n), the proportion of the common pool sub-ACLs allocated to each trimester for GB yellowtail flounder and GB winter flounder are corrected to sum to 100 percent to address a previous rounding error. The distribution of the common pool sub-ACLs into trimesters was adopted in Amendment 16 to the FMP and was based on landing patterns at that time. Due to a rounding error in the calculations, the apportionment of the TAC among trimesters for GB yellowtail flounder and GB winter flounder each adds up to 101 percent. Although this error has not lead to overages, we are correcting this error to ensure that not more than 100 percent of the common pool sub-ACL is allocated among the trimesters.

Classification

Pursuant to section 304(b)(1)(A) of the Magnuson-Stevens Act, the National Marine Fisheries Service (NMFS) Assistant Administrator has made a preliminary determination that this proposed rule is consistent with Framework 57, other provisions of the Magnuson-Stevens Act, and other applicable law. In making the final determination, we will consider the data, views, and comments received during the public comment period.

This proposed rule has been determined to be not significant for purposes of Executive Order (E.O.) 12866.

This proposed rule does not contain policies with Federalism or takings implications as those terms are defined in E.O. 13132 and E.O. 12630, respectively.

The Chief Counsel for Regulation of the Department of Commerce certified to the Chief Counsel for Advocacy of the Small Business Administration that this proposed rule, if adopted, would not have a significant economic impact on a substantial number of small entities. The factual determination for this determination is as follows.

Periodic framework adjustments are used to revise the Northeast Multispecies Fishery Management Plan (FMP) in response to new information to support catch limits that prevent overfishing and other adjustments to improve management measures included in the FMP. Framework 57 proposes to revise groundfish catch limits for 20 groundfish stocks for fishing years 2018-2020 (May 1, 2018, through April 30, 2020), adjust several allocations and AMs for groundfish catch in non-groundfish fisheries, and make other administrative changes to groundfish management measures. Our analysis of the likely economic impacts of Framework 57 measures predicts that the proposed action will have positive impacts on fishing vessels, purchasers of seafood products, recreational anglers, and operators of party/charter businesses.

For purposes of the Regulatory Flexibility Act, NMFS established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. The determination of whether the entity is large or small is based on the average annual revenue for the most recent 3 years for which data are available (from 2014 through 2016).

As of May 1, 2016 (beginning of fishing year 2016), NMFS had issued 899 limited access groundfish permits associated with vessels, 453 open access groundfish handgear permits, 733 limited access and general category Atlantic sea scallop permits, 766 small-mesh multispecies permits, 81 Atlantic herring permits, and 794 permits to vessels that are not permitted in the groundfish fishery but have been active in the large-mesh non-groundfish fishery over the past year. Therefore, this action potentially regulates 3,727 permits. Some of these permits are issued to the same vessel. When accounting for this overlap between fisheries, this action potentially regulates 2,393 permitted vessels. Each vessel may be individually owned or part of a larger corporate ownership structure. For RFA purposes, the proposed action ultimately regulates the ownership entity. Ownership entities are identified on June 1 of each year based on the list of all permit numbers, for the most recent complete calendar year, that have applied for any type of Northeast Federal fishing permit. The current ownership data set is based on calendar year 2016 permits and contains gross sales associated with those permits for calendar years 2014 through 2016.

Based on the ownership data, 1,798 distinct business entities hold at least one permit that the proposed action potentially regulates. Of these, 205 are inactive and do not have revenues. Of the 1,798 entities, 1,789 entities are categorized as small, and 9 entities are categorized as large.

This action would set catch limits for groundfish stocks and revise AMs for numerous fisheries that catch groundfish species. These measures would enhance the operational flexibility of fishermen and increase profits. The measures proposed in Framework 57 are expected to have a positive economic effect on small entities because they are expected to generate $27 million in additional gross revenues, compared to expected gross revenues if no action is taken. The measures are also expected to generate $9 million in additional gross revenues relative to the most recent fishing year. Additional details of these economic analyses are included in Framework 57 (see ADDRESSES).

Description of Proposed Framework 57 Measures

Annual Catch Limits

This action would set 2018-2020 catch limits for 20 groundfish stocks and 2018 catch limits for the 3 stocks jointly managed with Canada (Eastern Georges Bank (GB) cod, Eastern GB haddock, and GB yellowtail flounder) based on assessments completed in 2017.

Revisions to Common Pool Trimester Allocations

The common pool quota for each stock is split into trimester total allowable catches (TAC) in fixed proportions based on historic fishing effort, and this distribution has not been changed since 2010. Using recent data, Framework 57 revises the proportion of the TAC allocated to each trimester for six stocks that have experienced early closures in either Trimester 1 or 2 since 2012. Framework 57 would also grant authority to the Regional Administrator to modify future trimester TAC allocations under specific circumstances to help provide an opportunity to achieve the catch targets.

Revised Atlantic Halibut AM

Framework 57 would expand the existing zero-possession AM to all vessels issued a Federal permit, excluding vessels issued only a Federal multispecies charter/party permit, an Atlantic highly migratory species angling permit, and/or an Atlantic highly migratory species charter/headboat permit.

When the total ACL is exceeded, groundfish vessels are also subject to several gear-restricted areas. Framework 57 would also revise the existing Atlantic halibut AM gear-restricted areas using updated information. The modifications would allow groundfish trawl and fixed gear vessels additional flexibility while continuing to reduce catch of halibut when the AMs are triggered.

Revised Southern Windowpane Flounder AM for Non-Groundfish Vessels

The proposed measure would scale the size of the southern windowpane AM area based on the condition of the stock and catch in the year after the overage for non-groundfish fisheries, but would not alter the AM trigger. Based on an updated evaluation of the existing AM areas, Framework 57 would allow reduced AM areas and seasons for non-groundfish trawl vessels using a 5-inch mesh or greater cod end.

Atlantic Scallop Fishery AM Policy

For fishing year 2018, the AM for the scallop fishery would only be triggered if the overall ACL for the stock is exceeded and the scallop fishery exceeds its sub-ACL. This change would be effective for 1 year, and is identical to the scallop fishery's AM trigger for GB yellowtail flounder and northern windowpane flounder.

Recreational Fishery Measures

Framework 57 would provide authority to the Regional Administrator to adjust recreational measures for GB cod in 2018 and 2019. This authority is intended to address recent increases in the recreational fishery catch of GB cod and to ensure the fishery does not exceed its catch target. Potential changes to the GB cod recreational measures would be proposed in a separate rule and the economic impacts on party/charter small entities would be analyzed under that action.

Overall, the measures proposed in Framework 57 are expected to have a positive economic effect on small entities. This action would provide additional fishing opportunities, enhanced operational flexibility, and increased profits to fishermen in the groundfish, scallop, summer flounder, scup, and skate fisheries.

This action is not expected to have a significant or substantial effect on small entities. The effects on the regulated small entities identified in this analysis are expected to be positive in comparison with the no action alternative, which would result in lower revenues and profits than under the proposed action. Under the proposed action, small entities would not be placed at a competitive disadvantage relative to large entities, and the regulations would not reduce the profits for any small entities relative to taking no action. Thus, this proposed rule would not have a significant economic impact on a substantial number of small entities. As a result, an initial regulatory flexibility analysis is not required and none has been prepared.

List of Subjects in 50 CFR Part 648

Fisheries, Fishing, Reporting and recordkeeping requirements.

Dated: March 16, 2018.
Samuel D. Rauch III,
Deputy Assistant Administrator for Regulatory Programs, National Marine Fisheries Service.

For the reasons stated in the preamble, 50 CFR part 648 is proposed to be amended as follows:

PART 648—FISHERIES OF THE NORTHEASTERN UNITED STATES

1. The authority citation for part 648 continues to read as follows:

Authority: 16 U.S.C. 1801 et seq.

2. In § 648.14, revise paragraphs (k)(18) and (20) to read as follows:

§ 648.14 Prohibitions.

* * * * *

(k) * * *

(18) Trimester TAC AM. It is unlawful for any person, including any owner or operator of a vessel issued a valid Federal NE multispecies permit or letter under § 648.4(a)(1)(i), unless otherwise specified in § 648.17, to fish for, harvest, possess, or land regulated species or ocean pout in or from the closed areas specified in § 648.82(n)(2)(ii) once such areas are closed pursuant to § 648.82(n)(2)(i).

* * * * *

(20) AMs for both stocks of windowpane flounder, ocean pout, Atlantic halibut, and Atlantic wolffish. It is unlawful for any person, including any owner or operator of a vessel issued a valid Federal NE multispecies permit or letter under § 648.4(a)(1)(i), unless otherwise specified in § 648.17, to fail to comply with the restrictions on fishing and gear specified in § 648.90(a)(5)(i)(D) through (H).

* * * * *

3. In § 648.82, revise paragraph (n)(2)(i) to read as follows:

§ 648.82 Effort-control program for NE multispecies limited access vessels.

* * * * *

(n) * * *

(2)* * *

(i) Trimester TACs— (A) Trimester TAC distribution. With the exception of SNE/MA winter flounder, any sub-ACLs specified for common pool vessels pursuant to § 648.90(a)(4) shall be apportioned into 4-month trimesters, beginning at the start of the fishing year (i.e., Trimester 1: May 1-August 31; Trimester 2: September 1-December 31; Trimester 3: January 1-April 30), as follows:

Portion of Common Pool Sub-ACLs Apportioned to Each Stock for Each Trimester
Stock | Trimester 1 (percent) | Trimester 2 (percent) | Trimester 3 (percent)
GB cod | 28 | 34 | 38
GOM cod | 49 | 33 | 18
GB haddock | 27 | 33 | 40
GOM haddock | 27 | 26 | 47
GB yellowtail flounder | 19 | 30 | 51
SNE/MA yellowtail flounder | 21 | 28 | 51
CC/GOM yellowtail flounder | 57 | 26 | 17
American plaice | 74 | 8 | 18
Witch flounder | 55 | 20 | 25
GB winter flounder | 8 | 24 | 68
GOM winter flounder | 37 | 38 | 25
Redfish | 25 | 31 | 44
White hake | 38 | 31 | 31
Pollock | 28 | 35 | 37

(B) Trimester TAC adjustment. For stocks that have experienced early closures (e.g., Trimester 1 or Trimester 2 closures), the Regional Administrator may use the biennial adjustment process specified in § 648.90 to revise the distribution of trimester TACs specified in paragraph (n)(2)(i)(A) of this section. Future adjustments to the distribution of trimester TACs shall use catch data for the most recent 5-year period prior to the reevaluation of trimester TACs.

* * * * *

4. In § 648.89, add paragraph (g) to read as follows:

§ 648.89 Recreational and charter/party vessel restrictions.

* * * * *

(g) Regional Administrator authority for 2018 and 2019 Georges Bank cod recreational measures. For the 2018 or 2019 fishing years, the Regional Administrator, after consultation with the NEFMC, may adjust recreational measures for Georges Bank cod to prevent the recreational fishery from exceeding the annual catch target of 138 mt. Appropriate measures, including adjustments to fishing seasons, minimum fish sizes, or possession limits, may be implemented in a manner consistent with the Administrative Procedure Act, with the final measures published in the Federal Register prior to the start of the fishing year when possible. Separate measures may be implemented for the private and charter/party components of the recreational fishery. Measures in place in fishing year 2019 will be in effect beginning in fishing year 2020, and will remain in effect until they are changed by a Framework Adjustment or Amendment to the FMP, or through an emergency action.

5. Section 648.90 is amended by:

a. Removing reserved paragraph (a)(5)(i)(E);

b. Redesignating paragraphs (a)(5)(i)(D)(1) through (4) as paragraphs (a)(5)(i)(E) through (H);

c. Revising newly redesignated paragraphs (a)(5)(i)(E) through (H); and

d. Adding paragraph (a)(5)(iv)(C).

The revisions and addition read as follows:

§ 648.90 NE multispecies assessment, framework procedures and specifications, and flexible area action system.

* * * * *

(a) * * *

(5) * * *

(i) * * *

(E) Windowpane flounder. Unless otherwise specified in paragraphs (a)(5)(i)(E)(5) and (6) of this section, if NMFS determines the total catch exceeds the overall ACL for either stock of windowpane flounder, as described in this paragraph (a)(5)(i)(E), by any amount greater than the management uncertainty buffer, up to 20 percent greater than the overall ACL, the applicable small AM area for the stock shall be implemented, as specified in paragraph (a)(5)(i)(E) of this section, consistent with the Administrative Procedure Act. If the overall ACL is exceeded by more than 20 percent, the applicable large AM area(s) for the stock shall be implemented, as specified in this paragraph (a)(5)(i)(E), consistent with the Administrative Procedure Act. Vessels fishing with trawl gear in these areas may only use a haddock separator trawl, as specified in § 648.85(a)(3)(iii)(A); a Ruhle trawl, as specified in § 648.85(b)(6)(iv)(J)(3); a rope separator trawl, as specified in § 648.84(e); or any other gear approved consistent with the process defined in § 648.85(b)(6).

(1) If an overage of the overall ACL for southern windowpane flounder is a result of an overage of the sub-ACL allocated to the multispecies fishery pursuant to paragraph (a)(4)(iii)(H)(2) of this section, the applicable AM area(s) shall be in effect year-round for any limited access NE multispecies permitted vessel fishing on a NE multispecies DAS or sector trip.

(2) If an overage of the overall ACL for southern windowpane flounder is a result of an overage of the sub-ACL allocated to exempted fisheries pursuant to paragraph (a)(4)(iii)(F) of this section, the applicable AM area(s) shall be in effect for any trawl vessel fishing with a codend mesh size of greater than or equal to 5 inches (12.7 cm) in other, non-specified sub-components of the fishery, including, but not limited to, exempted fisheries that occur in Federal waters and fisheries harvesting exempted species specified in § 648.80(b)(3). If triggered, the Southern Windowpane Flounder Small AM Area will be implemented from September 1 through April 30; the Southern Windowpane Flounder Large AM Areas 2 and 3 will be implemented year-round.

(3) If an overage of the overall ACL for southern windowpane flounder is a result of overages of both the multispecies fishery and exempted fishery sub-ACLs, the applicable AM area(s) shall be in effect for both the multispecies fishery and exempted fisheries as described in this paragraph (a)(5)(i)(E). If a sub-ACL for either stock of windowpane flounder is allocated to another fishery, consistent with the process specified at paragraph (a)(4) of this section, and there are AMs for that fishery, the multispecies fishery AM shall only be implemented if the sub-ACL allocated to the multispecies fishery is exceeded (i.e., the sector and common pool catch for a particular stock, including the common pool's share of any overage of the overall ACL caused by excessive catch by other sub-components of the fishery pursuant to paragraph (a)(5) of this section exceeds the common pool sub-ACL) and the overall ACL is also exceeded.

(4) Windowpane AM Areas. The AM areas defined below are bounded by the following coordinates, connected in the order listed by rhumb lines, unless otherwise noted.

Point | N latitude | W longitude
Northern Windowpane Flounder and Ocean Pout Small AM Area
1 | 41°10′ | 67°40′
2 | 41°10′ | 67°20′
3 | 41°00′ | 67°20′
4 | 41°00′ | 67°00′
5 | 40°50′ | 67°00′
6 | 40°50′ | 67°40′
1 | 41°10′ | 67°40′
Northern Windowpane Flounder and Ocean Pout Large AM Area
1 | 42°10′ | 67°40′
2 | 42°10′ | 67°20′
3 | 41°00′ | 67°20′
4 | 41°00′ | 67°00′
5 | 40°50′ | 67°00′
6 | 40°50′ | 67°40′
1 | 42°10′ | 67°40′
Southern Windowpane Flounder and Ocean Pout Small AM Area
1 | 41°10′ | 71°30′
2 | 41°10′ | 71°20′
3 | 40°50′ | 71°20′
4 | 40°50′ | 71°30′
1 | 41°10′ | 71°30′
Southern Windowpane Flounder and Ocean Pout Large AM Area 1
1 | 41°10′ | 71°50′
2 | 41°10′ | 71°10′
3 | 41°00′ | 71°10′
4 | 41°00′ | 71°20′
5 | 40°50′ | 71°20′
6 | 40°50′ | 71°50′
1 | 41°10′ | 71°50′
Southern Windowpane Flounder and Ocean Pout Large AM Area 2
1 | (¹) | 73°30′
2 | 40°30′ | 73°30′
3 | 40°30′ | 73°50′
4 | 40°20′ | 73°50′
5 | 40°20′ | (²)
6 | (³) | 73°58.5′
7 | (⁴) | 73°58.5′
8 | ⁵ 40°32.6′ | ⁵ 73°56.4′
1 | (¹) | 73°30′
Southern Windowpane Flounder Large AM Area 3
1 | 41°10′ | 71°30′
2 | 41°10′ | 71°10′
3 | 41°00′ | 71°10′
4 | 41°00′ | 71°20′
5 | 40°50′ | 71°20′
6 | 40°50′ | 71°30′
1 | 41°10′ | 71°30′
¹ The southernmost coastline of Long Island, NY, at 73°30′ W longitude.
² The easternmost coastline of NJ at 40°20′ N latitude, then northward along the NJ coastline to Point 6.
³ The northernmost coastline of NJ at 73°58.5′ W longitude.
⁴ The southernmost coastline of Long Island, NY, at 73°58.5′ W longitude.
⁵ The approximate location of the southwest corner of the Rockaway Peninsula, Queens, NY, then eastward along the southernmost coastline of Long Island, NY (excluding South Oyster Bay), back to Point 1.

(5) Reducing the size of an AM. If the overall northern or southern windowpane flounder ACL is exceeded by more than 20 percent and NMFS determines that the stock is rebuilt, and the biomass criterion, as defined by the Council, is greater than the most recent fishing year's catch, then only the small AM may be implemented as described in paragraph (a)(5)(i)(D)(1) of this section, consistent with the Administrative Procedure Act. This provision applies to a limited access NE multispecies permitted vessel fishing on a NE multispecies DAS or sector trip, and to all vessels fishing with trawl gear with a codend mesh size equal to or greater than 5 inches (12.7 cm) in other, non-specified sub-components of the fishery, including, but not limited to, exempted fisheries that occur in Federal waters and fisheries harvesting exempted species specified in § 648.80(b)(3).

(6) Reducing the duration of an AM. If the northern or southern windowpane flounder AM is implemented in the third fishing year following the year of an overage, as described in paragraph (a)(5)(i)(D) of this section, and NMFS subsequently determines that the applicable windowpane flounder ACL was not exceeded by any amount the year immediately after which the overage occurred (i.e., the second year), on or after September 1 the AM can be removed once year-end data are complete. This reduced duration does not apply if NMFS determines during year 3 that a year 3 overage of the applicable windowpane flounder ACL has occurred. This provision applies to a limited access NE multispecies permitted vessel fishing on a NE multispecies DAS or sector trip, and to all vessels fishing with trawl gear with a codend mesh size equal to or greater than 5 inches (12.7 cm) in other, non-specified sub-components of the fishery, including, but not limited to, exempted fisheries that occur in Federal waters and fisheries harvesting exempted species specified in § 648.80(b)(3).

(F) Atlantic halibut. If NMFS determines the overall ACL for Atlantic halibut is exceeded, as described in this paragraph (a)(5)(i)(F), by any amount greater than the management uncertainty buffer, the applicable AM areas shall be implemented and any vessel issued a Federal permit for any fishery management plan may not fish for, possess, or land Atlantic halibut for the fishing year in which the AM is implemented, as specified in paragraph (a)(5)(i)(F) of this section. Vessels issued only a charter/party permit, and/or an Atlantic highly migratory species angling permit, and/or an Atlantic highly migratory species charter/headboat permit are exempt from the AM. A vessel issued a permit that is not exempt from the AM in addition to an exempt permit may not fish for, possess, or land Atlantic halibut for the fishing year in which the AM is implemented. If the overall ACL is exceeded by more than 20 percent, the applicable AM area(s) for the stock shall be implemented, as specified in paragraph (a)(5)(i)(F) of this section, and the Council shall revisit the AM in a future action. The AM areas defined below are bounded by the following coordinates, connected in the order listed by rhumb lines, unless otherwise noted. Any vessel issued a limited access NE multispecies permit and fishing with trawl gear in the Atlantic Halibut Trawl Gear AM Area may only use a haddock separator trawl, as specified in § 648.85(a)(3)(iii)(A); a Ruhle trawl, as specified in § 648.85(b)(6)(iv)(J)(3); a rope separator trawl, as specified in § 648.84(e); or any other gear approved consistent with the process defined in § 648.85(b)(6); except that selective trawl gear is not required in the portion of the Trawl Gear AM Area between 41 degrees 40 minutes and 42 degrees from April 1 through July 31. When in effect, a limited access NE multispecies permitted vessel with gillnet gear may not fish or be in the Atlantic Halibut Fixed Gear AM Area from March 1 through October 31, unless transiting with its gear stowed and not available for immediate use as defined in § 648.2, or such gear was approved consistent with the process defined in § 648.85(b)(6). If a sub-ACL for Atlantic halibut is allocated to another fishery, consistent with the process specified at § 648.90(a)(4), and there are AMs for that fishery, the multispecies fishery AM shall only be implemented if the sub-ACL allocated to the multispecies fishery is exceeded (i.e., the sector and common pool catch for a particular stock, including the common pool's share of any overage of the overall ACL caused by excessive catch by other sub-components of the fishery pursuant to § 648.90(a)(5), exceeds the common pool sub-ACL) and the overall ACL is also exceeded.

Atlantic Halibut Trawl Gear AM Area
Point | N latitude | W longitude
1 | 42°00′ | 69°20′
2 | 42°00′ | 68°20′
3 | 41°30′ | 68°20′
4 | 41°30′ | 69°20′

Atlantic Halibut Gillnet Gear AM Area
Point | N latitude | W longitude
1 | 43°10′ | 69°40′
2 | 43°10′ | 69°30′
3 | 43°00′ | 69°30′
4 | 43°00′ | 69°40′

(G) Atlantic wolffish. If NMFS determines the overall ACL for Atlantic wolffish is exceeded, as described in this paragraph (a)(5)(i)(G), by any amount greater than the management uncertainty buffer, the applicable AM areas shall be implemented, as specified in this paragraph (a)(5)(i)(G). If the overall ACL is exceeded by more than 20 percent, the applicable AM area(s) for the stock shall be implemented, as specified in this paragraph (a)(5)(i)(G), and the Council shall revisit the AM in a future action. The AM areas defined below are bounded by the following coordinates, connected in the order listed by rhumb lines, unless otherwise noted. Any vessel issued a limited access NE multispecies permit and fishing with trawl gear in the Atlantic Wolffish Trawl Gear AM Area may only use a haddock separator trawl, as specified in § 648.85(a)(3)(iii)(A); a Ruhle trawl, as specified in § 648.85(b)(6)(iv)(J)(3); a rope separator trawl, as specified in § 648.84(e); or any other gear approved consistent with the process defined in § 648.85(b)(6). When in effect, a limited access NE multispecies permitted vessel with gillnet or longline gear may not fish or be in the Atlantic Wolffish Fixed Gear AM Areas, unless transiting with its gear stowed and not available for immediate use as defined in § 648.2, or such gear was approved consistent with the process defined in § 648.85(b)(6). If a sub-ACL for Atlantic wolffish is allocated to another fishery, consistent with the process specified at § 648.90(a)(4), and AMs are developed for that fishery, the multispecies fishery AM shall only be implemented if the sub-ACL allocated to the multispecies fishery is exceeded (i.e., the sector and common pool catch for a particular stock, including the common pool's share of any overage of the overall ACL caused by excessive catch by other sub-components of the fishery pursuant to § 648.90(a)(5), exceeds the common pool sub-ACL) and the overall ACL is also exceeded.

Atlantic Wolffish Trawl Gear AM Area
Point | N latitude | W longitude
1 | 42°30′ | 70°30′
2 | 42°30′ | 70°15′
3 | 42°15′ | 70°15′
4 | 42°15′ | 70°10′
5 | 42°10′ | 70°10′
6 | 42°10′ | 70°20′
7 | 42°20′ | 70°20′
8 | 42°20′ | 70°30′

Atlantic Wolffish Fixed Gear AM Area 1
Point | N latitude | W longitude
1 | 41°40′ | 69°40′
2 | 41°40′ | 69°30′
3 | 41°30′ | 69°30′
4 | 41°30′ | 69°40′

Atlantic Wolffish Fixed Gear AM Area 2
Point | N latitude | W longitude
1 | 42°30′ | 70°20′
2 | 42°30′ | 70°15′
3 | 42°20′ | 70°15′
4 | 42°20′ | 70°20′

(H) Ocean pout. Unless otherwise specified in paragraphs (a)(5)(i)(E)(5) and (6) of this section, if NMFS determines the total catch exceeds the overall ACL for ocean pout, as described in paragraph (a)(5)(i)(E) of this section, by any amount greater than the management uncertainty buffer up to 20 percent greater than the overall ACL, the applicable small AM area for the stock shall be implemented, as specified in paragraph (a)(5)(i)(E) of this section, consistent with the Administrative Procedure Act. If the overall ACL is exceeded by more than 20 percent, large AM area(s) for the stock shall be implemented, as specified in paragraph (a)(5)(i)(E) of this section, consistent with the Administrative Procedure Act. The AM areas for ocean pout are defined in paragraph (a)(5)(i)(E)(4) of this section, connected in the order listed by rhumb lines, unless otherwise noted. Vessels fishing with trawl gear in these areas may only use a haddock separator trawl, as specified in § 648.85(a)(3)(iii)(A); a Ruhle trawl, as specified in § 648.85(b)(6)(iv)(J)(3); a rope separator trawl, as specified in § 648.84(e); or any other gear approved consistent with the process defined in § 648.85(b)(6).

* * * * *

(iv) * * *

(C) 2018 fishing year threshold for implementing the Atlantic sea scallop fishery AM for SNE/MA yellowtail flounder. For the 2018 fishing year, if the scallop fishery catch exceeds its SNE/MA yellowtail flounder sub-ACL specified in paragraph (a)(4) of this section, and total catch exceeds the overall ACL for that stock, then the applicable scallop fishery AM will take effect, as specified in § 648.64 of the Atlantic sea scallop regulations. Beginning in fishing year 2019, the threshold for implementing scallop fishery AMs for SNE/MA yellowtail flounder listed in paragraph (a)(5)(iv)(A) of this section will be in effect.

* * * * *

[FR Doc. 2018-05755 Filed 3-21-18; 8:45 am]

BILLING CODE 3510-22-P